DEPARTMENT OF ENERGY

Federal Energy Regulatory Commission

Combined Notice of Filings #1

February 18, 2009.

Take notice that the Commission received the following electric corporate filings:

Docket Numbers: EC09-55-000.

Applicants: Orange and Rockland Utilities, Inc.

Description: Application of Orange and Rockland Utilities under Section 203 for order authorizing the purchase of short-term debt of Rockland Electric Company not in excess of $30 million.

Filed Date: 02/10/2009.

Accession Number: 20090210-5119.

Comment Date: 5 p.m. Eastern Time on Tuesday, March 3, 2009.

Take notice that the Commission received the following electric rate filings:

Docket Numbers: ER00-586-007.

Applicants: Madison Gas & Electric Company

Description: Madison Gas and Electric Co submits its Market-Based Power Sales Tariff, Second Revised Volume 4, to be effective 1/6/09.

Filed Date: 02/09/2009.

Accession Number: 20090210-0167.

Comment Date: 5 p.m. Eastern Time on Monday, March 2, 2009.

Docket Numbers: ER00-3251-019; ER01-1919-011; ER01-1147-006; ER01-513-021; ER98-1734-014; ER99-2404-013; ER99-754-016.

Applicants: Exelon Generating Company, LLC, AmerGen Energy Company, LLC, Commonwealth Edison Company, PECO Energy Company, Exelon West Medway, LLC, Exelon New England Power Marketing, L.P.

Description: Exelon Generation Company, LLC et al. submits Market-Based Rate Authority and Generation Assets in compliance with the Commission's 1/15/09 Order, and Order 697 and 697A.

Filed Date: 02/13/2009.

Accession Number: 20090217-0162.

Comment Date: 5 p.m. Eastern Time on Friday, March 6, 2009.

Docket Numbers: ER05-1218-003; ER00-2887-006; ER05-1219-003; ER06-703-002; ER07-1341-003; ER96-149-013; ER97-2414-012;

Applicants: Bayonne Plant Holding, L.L.C.; Newark Bay Cogeneration Partnership, L.P; Camden Plant Holding, L.L.C.; Pedricktown Cogeneration Company, LP; York Generation Company LLC; Dartmouth Power Associates Limited Partnership; Lowell Cogeneration Company Limited Partnership

Description: Supplement to Updated Market Power Analysis of Bayonne Plant Holding, L.L.C., et al.

Filed Date: 02/17/2009.

Accession Number: 20090217-5063.

Comment Date: 5 p.m. Eastern Time on Tuesday, March 10, 2009.

Docket Numbers: ER07-22-001.

Applicants: Jump Power, LLC.

Description: Jump Power, LLC submits its Order No. 697 Compliance Filing and Application for Category 1 Status.

Filed Date: 02/06/2009

Accession Number: 20090211-0032.

Comment Date: 5 p.m. Eastern Time on Friday, February 27, 2009

Docket Numbers: ER07-1137-002.

Applicants: Lockhart Power Company.

Description: Lockhart Power Company submits Second Revised Sheet 2 to FERC Electric Tariff, First Revised Volume 3 pursuant to Order 614.

Filed Date: 02/13/2009.

Accession Number: 20090213-0181.

Comment Date: 5 p.m. Eastern Time on Friday, March 6, 2009.

Docket Numbers: ER07-1249-005.

Applicants: Lockport Energy Associates, L.P.

Description: Amendment to Triennial Market Power Analysis of Lockport Energy Associates, L.P.

Filed Date: 02/12/2009.

Accession Number: 20090212-5133.

Comment Date: 5 p.m. Eastern Time on Thursday, March 5, 2009.

Docket Numbers: ER08-54-010.

Applicants: ISO New England Inc.

Description: PTO Administrative Committee and the New England Power Pool requests that Substitute First Sheet 1426A be withdrawn from the Compliance Filing in its entirety.

Filed Date: 02/12/2009.

Accession Number: 20090213-0177.

Comment Date: 5 p.m. Eastern Time on Thursday, March 5, 2009.

Docket Numbers: ER08-777-003; ER08-396-004; EL08-31-002.

Applicants: Westar Energy, Inc.

Description: Westar Energy, Inc. et al. submits Third Substitute 2nd Revised Sheet 175 to FERC Electric Tariff, Second Revised Volume 5 to Westar's Open Access Transmission Tariff.

Filed Date: 02/13/2009.

Accession Number: 20090218-0021.

Comment Date: 5 p.m. Eastern Time on Friday, March 6, 2009.

Docket Numbers: ER08-1328-001.

Applicants: New England Participating Transmission Owners.

Description: Second Supplement to July 31, 2008 Annual Informational Filing Regarding ISO Tariff Changes in Effect as of December 1, 2008 of Maine Electric Power Company.

Filed Date: 02/17/2009.

Accession Number: 20090217-5215.

Comment Date: 5 p.m. Eastern Time on Tuesday, March 10, 2009.

Docket Numbers: ER09-172-003; ER09-173-003.

Applicants: Canandaigua Power Partners, LLC, Canandaigua Power Partners II, LLC.

Description: Canadaigua Power Partners, LLC et al. submits revised tariff pages for their market-based rate wholesale power tariff identifying the tariffs', effective 1/30/09.

Filed Date: 02/12/2009.

Accession Number: 20090213-0174.

Comment Date: 5 p.m. Eastern Time on Thursday, March 5, 2009.

Docket Numbers: ER09-337-000; ER09-398-000.

Applicants: Ameren Energy Generating Company; Ameren Energy Marketing Company.

Description: Joint Response to Deficiency Letter of Ameren Energy Generating Company and Ameren Energy Marketing Company.

Filed Date: 02/02/2009.

Accession Number: 20090202-5190.

Comment Date: 5 p.m. Eastern Time on Monday, February 23, 2009.

Docket Numbers: ER09-458-001.

Applicants: Calpine Energy Services, L.P.

Description: Calpine Energy Services, LP amends its 12/17/08 filing of proposed revisions to its market-based rate tariff to permit the sale, assignment, or transfer of transmission rights.

Filed Date: 02/12/2009.

Accession Number: 20090213-0173.

Comment Date: 5 p.m. Eastern Time on Thursday, March 5, 2009.

Docket Numbers: ER09-482-000.

Applicants: Golden Spread Electric Cooperative, Inc.

Description: Golden Spread Electric Cooperative, Inc. requests that FERC defer taking action.

Filed Date: 02/12/2009.

Accession Number: 20090217-0122.

Comment Date: 5 p.m. Eastern Time on Thursday, March 5, 2009.

Docket Numbers: ER09-512-001.

Applicants: Midwest Independent Transmission System Operator, Inc.

Description: Midwest Independent Transmission System Operator, Inc. submits amendment to the executed Amended and Restated. Interconnection and Operating Agreement among the Midwest ISO, et al.

Filed Date: 02/09/2009.

Accession Number: 20090211-0011.

Comment Date: 5 p.m. Eastern Time on Monday, March 2, 2009.

Docket Numbers: ER09-522-001.

Applicants: Alliant Energy Corporate Services, Inc.

Description: Alliant Energy Corporate Services, Inc. submits its 12/22/08 filing to reflect a tariff cancellation date of 1/6/09 rather than 1/1/09.

Filed Date: 02/06/2009.

Accession Number: 20090209-0130.

Comment Date: 5 p.m. Eastern Time on Friday, February 27, 2009.

Docket Numbers: ER09-541-001.

Applicants: PJM Interconnection L.L.C.

Description: PJM Interconnection, LLC submits Amendment to its filing of the Notice of Cancellation of Service Agreement 733.

Filed Date: 02/13/2009.

Accession Number: 20090218-0022.

Comment Date: 5 p.m. Eastern Time on Friday, March 6, 2009.

Docket Numbers: ER09-561-000.

Applicants: Midwest Independent Transmission System Operator, Inc.

Description: Midwest Independent Transmission System Operator, Inc. submits an amendment to the request to terminate the market participant agreement with Olde Towne Energy Associates, LLC etc.

Filed Date: 02/12/2009.

Accession Number: 20090217-0121.

Comment Date: 5 p.m. Eastern Time on Thursday, March 5, 2009.

Docket Numbers: ER09-655-000.

Applicants: Duke Energy Retail Sales, LLC.

Description: Duke Energy Retail Sales, LLC submits requests that the Commission grant authorization for wholesale sales of electric capacity, energy, ancillary services at market based rates for all markets outside of Duke Energy Carolinas, Inc. et al.

Filed Date: 02/06/2009.

Accession Number: 20090211-0009.

Comment Date: 5 p.m. Eastern Time on Friday, February 27, 2009.

Docket Numbers: ER09-659-001.

Applicants: Southwest Power Pool, Inc.

Description: Southwest Power Pool, Inc. submits Original Rate Schedule FERC No. 11 et. al.

Filed Date: 02/09/2009.

Accession Number: 20090211-0010.

Comment Date: 5 p.m. Eastern Time on Monday, March 2, 2009.

Docket Numbers: ER09-660-000; ER09-660-001.

Applicants: Midwest Independent Transmission System Operator, Inc.

Description: Midwest Independent Transmission System Operator, Inc. submits Open Access Transmission, Energy and Operating Reserve Markets Tariff etc. and on 6/12/09 Midwest submit an amendment to this filing.

Filed Date: 02/06/2009; 02/12/2009.

Accession Number: 20090209-0120; 20090212-0265.

Comment Date: 5 p.m. Eastern Time on Thursday, March 5, 2009.

Docket Numbers: ER09-661-000.

Applicants: State Line Energy, L.L.C.

Description: State Line Energy, LLC submits its Rate Schedule FERC 2, its revenue requirement for Reactive Supply and Voltage Control from Generation Sources Service supplied by the Company's generation facilities etc.

Filed Date: 02/06/2009.

Accession Number: 20090209-0119.

Comment Date: 5 p.m. Eastern Time on Friday, February 27, 2009.

Docket Numbers: ER09-662-000.

Applicants: PJM Interconnection L.L.C.

Description: PJM Interconnection, LLC submits an executed Wholesale Market Participation Agreement with Frederick County Department of Public Works and Potomac Edison Company etc.

Filed Date: 02/06/2009.

Accession Number: 20090209-0118.

Comment Date: 5 p.m. Eastern Time on Friday, February 27, 2009.

Docket Numbers: ER09-672-000.

Applicants: Carolina Power & Light Company.

Description: Carolina Power & Light Co. submits a revised Power Supply Agreement with North Carolina Electric Membership Corp.

Filed Date: 02/09/2009.

Accession Number: 20090210-0277.

Comment Date: 5 p.m. Eastern Time on Monday, March 2, 2009.

Docket Numbers: ER09-683-000.

Applicants: Alex Energy, LLC.

Description: Alex Energy LLC submits the Petition for Acceptance of Initial Tariff, Waivers and Blanket Authority, FERC Electric Tariff, Original Volume 1.

Filed Date: 02/12/2009.

Accession Number: 20090213-0172.

Comment Date: 5 p.m. Eastern Time on Thursday, March 5, 2009.

Docket Numbers: ER09-702-000.

Applicants: Westar Energy, Inc.

Description: Westar Energy, Inc. submits Second Revised Sheet 9 of a Control Area Services Agreement, between Westar and the Missouri Joint Municipal Electric Utility Commission etc.

Filed Date: 02/11/2009.

Accession Number: 20090212-0264.

Comment Date: 5 p.m. Eastern Time on Wednesday, March 4, 2009.

Docket Numbers: ER09-703-000.

Applicants: Tampa Electric Company.

Description: Tampa Electric Company submits First Revised Sheet 145 et al. in its open access transmission tariff.

Filed Date: 02/11/2009.

Accession Number: 20090212-0263.

Comment Date: 5 p.m. Eastern Time on Wednesday, March 4, 2009.

Docket Numbers: ER09-704-000.

Applicants: Carolina Power & Light Company.

Description: Progress Energy Carolinas, Inc. et al. submits Standard Large Generator Interconnection Agreement between CP&L and North Carolina Electric Membership Corporation.

Filed Date: 02/12/2009.

Accession Number: 20090212-0262.

Comment Date: 5 p.m. Eastern Time on Thursday, March 5, 2009.

Docket Numbers: ER09-705-000.

Applicants: Saracen Power LLC.

Description: Saracen Power LLC submits petition for acceptance of initial rate schedule, waivers and blanket authorization.

Filed Date: 02/13/2009.

Accession Number: 20090217-0161.

Comment Date: 5 p.m. Eastern Time on Friday, March 6, 2009.

Docket Numbers: ER09-706-000.

Applicants: Pacific Gas and Electric Company, Los Alamos Energy, LLC.

Description: Pacific Gas and Electric Company submits Notice of Termination of the Wholesale Distribution Tariff Service Agreement and an Agreement for Parallel Operation-Nonutility Owned Generation etc.

Filed Date: 02/12/2009.

Accession Number: 20090213-0175.

Comment Date: 5 p.m. Eastern Time on Thursday, March 5, 2009.

Docket Numbers: ER09-707-000.

Applicants: Southern California Edison Company.

Description: Southern California Edison Company submits revised rate for the Interconnection Facilities Agreement between SCE and Sierra Power Corporation, Service Agreement 68 under SCE's Wholesale Distribution Access Tariff etc.

Filed Date: 02/12/2009.

Accession Number: 20090213-0176.

Comment Date: 5 p.m. Eastern Time on Thursday, March 5, 2009.

Docket Numbers: ER09-708-000.

Applicants: Southern California Edison Company.

Description: Southern California Edison Company submits revised rate sheets for the amended Service Agreement for Wholesale Distribution Service dated 11/26/97 and the Service Agreement for Wholesale Distribution Service dated 7/1/08 etc.

Filed Date: 02/12/2009.

Accession Number: 20090213-0178.

Comment Date: 5 p.m. Eastern Time on Thursday, March 5, 2009.

Docket Numbers: ER09-710-000.

Applicants: California Independent System Operator Corporation.

Description: California Independent System Operator Corporation submits amendment to the Market Redesign and Technology Upgrade tariff.

Filed Date: 02/13/2009.

Accession Number: 20090217-0165.

Comment Date: 5 p.m. Eastern Time on Friday, March 6, 2009.

Docket Numbers: ER09-711-000.

Applicants: Phelps Dodge Energy Services, LLC.

Description: Phelps Dodge Energy Services, LLC submits Notice of Succession to notify the Commission of a corporate name change resulting from a change in upstream ownership of PDES.

Filed Date: 02/13/2009.

Accession Number: 20090217-0166.

Comment Date: 5 p.m. Eastern Time on Friday, March 6, 2009.

Docket Numbers: ER09-713-000.

Applicants: PJM Interconnection L.L.C.

Description: PJM Interconnection, LLC submits Network Integration Transmission Service Agreement between PJM and the Northern Virginia Electric Cooperative, etc.

Filed Date: 02/13/2009.

Accession Number: 20090217-0167.

Comment Date: 5 p.m. Eastern Time on Friday, March 6, 2009.

Docket Numbers: ER09-714-000.

Applicants: Southwest Power Pool, Inc.

Description: Southwest Power Pool, Inc. submits revisions to its Open Access Transmission Tariff.

Filed Date: 02/13/2009.

Accession Number: 20090&-0169.

Comment Date: 5 p.m. Eastern Time on Friday, March 6, 2009.

Docket Numbers: ER09-715-000.

Applicants: Southwest Power Pool, Inc.

Description: Southwest Power Pool, Inc. submits Service Agreement for Network Integration Transmission Service between SPP as Transmission Provider and Southwestern Public Service Company as Network Customer, et al.

Filed Date: 02/13/2009.

Accession Number: 20090217-0168.

Comment Date: 5 p.m. Eastern Time on Friday, March 6, 2009.

Docket Numbers: ER09-716-000.

Applicants: ISO New England Inc.

Description: ISO New England Inc. submits Capital Projects Report and schedule of the unamortized costs of the ISO's funded capital expenditures for the quarter ending 12/31/08.

Filed Date: 02/13/2009.

Accession Number: 20090217-0163.

Comment Date: 5 p.m. Eastern Time on Friday, March 6, 2009.

Docket Numbers: ER09-717-000.

Applicants: Midwest Independent Transmission System Operator, Inc.

Description: Midwest Independent Transmission System Operator, Inc. submits revisions to its Open Access Transmission, Energy and Operating Reserve Markets Tariff.

Filed Date: 02/13/2009.

Accession Number: 20090217-0164.

Comment Date: 5 p.m. Eastern Time on Friday, March 6, 2009.

Docket Numbers: ER09-718-000.

Applicants: Southern California Edison Company.

Description: Southern California Edison Company submits letter agreement between SCE and Brea Power II, LLC.

Filed Date: 02/13/2009.

Accession Number: 20090217-0174.

Comment Date: 5 p.m. Eastern Time on Friday, March 6, 2009.

Docket Numbers: ER09-719-000.

Applicants: Public Service Company of New Hampshire.

Description: Public Service Company of New Hampshire submits revised Interconnection and Operations Agreement by and between PSNH and NAEA Newington Energy, LLC, etc.

Filed Date: 02/13/2009.

Accession Number: 20090217-0177.

Comment Date: 5 p.m. Eastern Time on Friday, March 6, 2009.

Docket Numbers: ER09-720-000.

Applicants: Southern California Edison Company.

Description: Southern California Edison Company submits revised rate sheets for the Small Generator Interconnection Agreement et al.

Filed Date: 02/13/2009.

Accession Number: 20090217-0176.

Comment Date: 5 p.m. Eastern Time on Friday, March 6, 2009.

Docket Numbers: ER09-721-000.

Applicants: Southern California Edison Company.

Description: Southern California Edison Company submits revised rate sheets to the Anaheim Puente Development Wholesale Distribution Load Interconnection Facilities Agreement, et al.

Filed Date: 02/13/2009.

Accession Number: 20090217-0175.

Comment Date: 5 p.m. Eastern Time on Friday, March 6, 2009.

Docket Numbers: ER09-722-000.

Applicants: Puget Sound Energy, Inc.

Description: Puget Sound Energy, Inc. submits for filing an Amendment 4 to Rate Schedule FERC 143 Colstrip Project Transmission Agreement et al.

Filed Date: 02/13/2009.

Accession Number: 20090218-0025.

Comment Date: 5 p.m. Eastern Time on Friday, March 6, 2009.

Take notice that the Commission received the following electric securities filings:

Docket Numbers: ES09-19-000.

Applicants: Sky River Partnership, Victory Garden Phase IV Partnership, FPL Energy Cabazon Wind, LLC.

Description: Application of FPL Energy Cabazon Wind, LLC.

Filed Date: 02/13/2009.

Accession Number: 20090213-5160.

Comment Date: 5 p.m. Eastern Time on Friday, March 6, 2009.

Take notice that the Commission received the following open access transmission tariff filings:

Docket Numbers: OA08-61-001.

Applicants: Southwest Power Pool, Inc.

Description: Southwest Power Pool, Inc. submits revisions to Attachment O of its Open Access Transmission Tariff pursuant to Order 890 and 890-A.

Filed Date: 02/06/2009.

Accession Number: 20090210-0268.

Comment Date: 5 p.m. Eastern Time on Friday, February 27, 2009.

Docket Numbers: OA08-76-001.

Applicants: E.ON U.S. LLC.

Description: Louisville Gas and Electric Company et al. submits revised Attachment C to the LG&E/KU joint Open Access Transmission Tariff.

Filed Date: 02/09/2009.

Accession Number: 20090211-0014.

Comment Date: 5 p.m. Eastern Time on Monday, March 2, 2009.

Take notice that the Commission received the following electric reliability filings:

Docket Numbers: RR06-1-021; RR07-1-005; RR07-2-005; RR07-3-006; RR07-4-005; RR07-5-006; RR07-6-007; RR07-7-007; RR07-8-006.

Applicants: North American Electric Reliability Corp.

Description: Compliance Filing of the North American Electric Reliability Corporation in Response to December 19, 2008, Order.

Filed Date: 02/17/2009.

Accession Number: 20090217-5165.

Comment Date: 5 p.m. Eastern Time on Monday, March 9, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-3985 Filed 2-24-09; 8:45 am]

BILLING CODE 6717-01-P